DEPARTMENT OF THE INTERIOR

Bureau of Land Management

[UT-050-1430-DB-24-1A]

Notice of Availability

AGENCY: Bureau of Land Management (BLM), Interior.

ACTION: Notice of Availability of Environmental Assessment (EA)/Finding of No Significant Impact (FONSI) for a Proposed Plan Amendment to the Mountain Valley Management Framework Plan (MFP).

SUMMARY: The Utah BLM Richfield Field Office has completed a Proposed Plan Amendment/EA/FONSI for the Mountain Valley MFP. All public lands and the mineral estate have been analyzed. The Environmental Assessment (EA) revealed no significant impact from the proposed action. The Mountain Valley MFP would be amended to identify the following public lands suitable for direct sale to Mr. Earl Sudweeks: T. 30 S., R. 3 W., Section 21, Lots 2 and 5, Salt Lake Meridian, Utah, containing a total of 23.09 acres. All minerals in the lands would be reserved to the United States.

DATES: The 30 day protest period for the proposed plan amendment will commence with the publication of this notice. Protests must be received on or before November 13, 2000.

ADDRESSES: Protests on the planning decision must be received by the Director (W-210), Bureau of Land Management, Attn: Brenda Williams, 1849 C Street, NW., Washington, DC 20240 within 30 days after the date of publication of this Notice of Availability.

FOR FURTHER INFORMATION CONTACT: Jerry Goodman, Richfield Field Office Manager, 150 East 900 North, Richfield, Utah 84701 or telephone (435) 896-1500. Copies of the proposed plan amendment/EA/FONSI are available at the Utah BLM Richfield Field Office and at the BLM Utah State Office, 324 South State Street, P.O. Box 45155, Salt Lake City, Utah 84145-0155 (telephone: 801-539-4001).

SUPPLEMENTARY INFORMATION: A Notice of Intent proposing to amend the MFP was published in the Federal Register on February 1, 2000. This plan amendment would allow the Richfield Field Office to sell the identified public land, at fair market value, pursuant to Section 203 of the Federal Land Policy and Management Act (FLPMA) of 1976 (90 stat. 2750, 43 U.S.C. 1713), and Title 43 CFR Part 2710.

The plan amendment is subject to protest from any adversely affected party who participated in the planning process. Protests must be made in accordance with provisions of 43 CFR 1610.5-2, as follows:

—The name, mailing address, phone number, and interest of the person filing the protest.

—A statement of the issue(s) being protested.

—A statement of the part(s) of the proposed amendment being protested and citing pages, paragraphs, maps, etc., of the proposed plan amendment.

—A copy of all documents addressing the issue(s) submitted by the protestor during the planning process or a reference to the date when the protester discussed the issue(s) for the record.

—A concise statement as to why the protester believes the proposed decision of the BLM State Director is incorrect.

Linda S. Colville,
Acting State Director.

[FR Doc. 00-26304 Filed 10-12-00; 8:45 am]

BILLING CODE 4310-$$-P